DEPARTMENT OF HOMELAND SECURITY

Coast Guard

33 CFR Part 100

[Docket No. USCG-2013-0213]

Special Local Regulations; Recurring Marine Events in the Seventh Coast Guard District

AGENCY: Coast Guard, DHS.

ACTION: Notice of enforcement of regulation.

SUMMARY: The Coast Guard will enforce the regulation pertaining to the Beaufort Water Festival from 1 p.m. through 4 p.m. on July 27, 2013. This action is necessary to ensure safety of life on navigable waters of the United States during the Beaufort Water Festival Air Show. During the enforcement period, the special local regulation establishes a regulated area which will all people and vessels will be prohibited from entering. Vessels may enter, transit through, anchor in, or remain within the area if authorized by the Captain of the Port Charleston or a designated representative.

DATES: The regulation in 33 CFR 100.701 Table 1 will be enforced from 1 p.m. through 4 p.m. July 27, 2013.

FOR FURTHER INFORMATION CONTACT: If you have questions on this rule, call or email CWO Christopher Ruleman, Sector Charleston Office of Waterways Management, Coast Guard; telephone 843-740-3184, email christopher.l.ruleman@uscg.mil.

SUPPLEMENTARY INFORMATION: The Coast Guard will enforce the special local regulation for the Beaufort Water Festival in 33 CFR 100.701 Table 1 from 1:00 p.m. through 4:00 p.m. on July 27, 2013.

Under the provisions of 33 CFR 100.701 no vessels or people may enter the regulated area, unless it receives permission to do so from the Captain of the Port. This temporary rule creates a regulated area that will encompass a portion of the waterway that is 700 ft wide by 2,600 ft in length, whose approximate corner coordinates are as follows: 32°25′47″ N/080°40′44″ W, 32°25′41″ N/080°40′14″ W, 32°25′35″ N/080°40′16″ W, 32°25′40″ N/080°40′46″ W.

Spectator vessels may safely transit outside the regulated area, but may not anchor, block, loiter in, or impede the transit of festival participants or official patrol vessels. The Coast Guard may be assisted by other Federal, State, or local law enforcement agencies in enforcing this regulation. This notice is issued under authority of 33 CFR 100.701 and 5 U.S.C. 552(a).

The Coast Guard will provide notice of the regulated areas by Local Notice to Mariners, Broadcast Notice to Mariners, and on-scene designated representatives.

Dated: May 6, 2013.
M.F. White,
Captain, U.S. Coast Guard, Captain of the Port Charleston.

[FR Doc. 2013-13765 Filed 6-10-13; 8:45 am]

BILLING CODE 9110-04-P